COMMISSION ON CIVIL RIGHTS

Agenda and Notice of Public Meeting of the Hawaii Advisory Committee

Notice is hereby given, pursuant to the provisions of the rules and regulations of the U.S. Commission on Civil Rights (Commission), and the Federal Advisory Committee Act (FACA), that a planning meeting of the Hawaii Advisory Committee to the Commission will convene by conference call at 9 a.m. and adjourn at 10 a.m. on August 15, 2007. The purpose of the meeting is to plan for upcoming briefings on the Akaka bill.

This meeting is available to the public through the following toll-free call-in number: 866-365-2984; using the access code: 12423291. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and access code 12423291.

To ensure that the Commission secures an appropriate number of lines for the public, persons are asked to register by contacting Angie Trevino of the Western Regional Office at 213-894-3437 by 4 p.m. on August 13, 2007.

Members of the public are entitled to submit written comments. The comments must be received in the regional office by August 30, 2007. The address is 300 North Los Angeles Street, Suite 2010, Los Angeles, CA 90012. Persons wishing to e-mail their comments, or to present their comments verbally at the meeting, or who desire additional information should contact Barbara de La Viez, Civil Rights Analyst, Eastern Regional Office, U.S. Commission on Civil Rights at (202) 376-7533 [TDY] 202-376-8116], or by e-mail at bdelaviez@usccr.gov. Records generated by this meeting may be inspected and reproduced at the Western Regional Office, as they become available, both before and after the meeting. Persons interested in the work of this advisory committee are advised to go to the Commission's Web site, http://www.usccr.gov, or to contact the Western Regional Office at the above e-mail or street address.

The meeting will be conducted pursuant to the provisions of the rules and regulations of the Commission and FACA. It was not possible to publish this notice 15 days in advance of the meeting date because of internal processing delays.

Dated at Washington, DC, August 3, 2007.
Ivy L. Davis,
Acting Chief, Regional Programs Coordination Unit.

[FR Doc. 07-3910 Filed 8-9-07; 8:45 am]

BILLING CODE 6335-01-M